DEPARTMENT OF ENERGY

Federal Energy Regulatory Commission

[Project No. 2388-002]

City of Holyoke Gas & Electric Department; Notice of Application Accepted for Filing and Soliciting Comments, Motions to Intervene, and Protests

Take notice that the following application has been filed with the Commission and is available for public inspection:

a. Application Type: Application to Accelerate License Expiration Date.

b. Project No: 2388-002.

c. Date Filed: September 9, 2013; Supplemented: September 24, 2013.

d. Applicant: City of Holyoke Gas & Electric Department.

e. Name of Project: Holyoke No. 3 Hydroelectric Project.

f. Location: The project is located on the Holyoke Canal in Hampden County, Massachusetts.

g. Filed Pursuant to: Federal Power Act, 16 U.S.C. 791a-825r (2012), and 18 CFR 5.4 (2013).

h. Applicant Contact: Mr. Paul S. Ducheney, Superintendent of Electric Production, City of Holyoke Gas & Electric Department, 99 Suffolk Street, Holyoke, Massachusetts, 01040, 413-536-9340, ducheney@hged.com.

i. FERC Contact: Any questions on this notice should be addressed to Jennifer Polardino, (202) 502-6437, or email at Jennifer.Polardino@ferc.gov.

j. Deadline for filing comments, motions to intervene, and protests: 45 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2388-002.

k. Description of Request: The licensee proposes to amend the license for the Holyoke No. 3 Hydroelectric Project to accelerate the license expiration date. The current expiration date is May 31, 2020. The licensee requests an expiration date of January 31, 2019. The licensee wants to accelerate the expiration date so it can coordinate relicensing the Holyoke No. 3 Project No. 2388 with the Holyoke No. 1 Project No. 2386 and the Holyoke No. 2 Project No. 2387. The current expiration date for the Holyoke No. 1 Hydroelectric Project is January 31, 2019, and Holyoke No. 2 Hydroelectric Project is August 31, 2018. The licensee holds the licenses for all three projects and all three are located on the Holyoke canal system.

l. Locations of the Application: A copy of the application is available for inspection and reproduction at the Commission's Public Reference Room, located at 888 First Street NE., Room 2A, Washington, DC 20426, or by calling (202) 502-8371. This filing may also be viewed on the Commission's Web site at http://www.ferc.gov using the “eLibrary” link. Enter the docket number excluding the last three digits in the docket number field to access the document. You may also register online at: http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214 (2013). In determining the appropriate action to take, the Commission will consider all timely filings, but only those who file a motion to intervene in accordance with the Commission's Rules may become a party to the proceeding. Any comments, protests, or motions to intervene must be received on or before the specified comment date for the particular application.

o. All filings must (1) bear in all capital letters the title “PROTEST,” “MOTION TO INTERVENE,” or “COMMENTS;” (2) set forth in the heading the name of the applicant and the project number of the application to which the filing responds; (3) furnish the name, address, and telephone number of the person commenting, protesting, or intervening; and (4) otherwise comply with the requirements of 18 CFR 385.2001 through 385.2005 (2013). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. Agency Comments: Federal, state, and local agencies are invited to file comments on the described application. A copy of the application may be obtained by agencies directly from the Applicant. If an agency does not file comments within the time specified for filing comments, it will be presumed to have no comments. One copy of an agency's comments must also be sent to the Applicant's representatives.

Dated: September 25, 2013.
Nathaniel J. Davis, Sr.,
Deputy Secretary.

[FR Doc. 2013-23879 Filed 9-30-13; 8:45 am]

BILLING CODE 6717-01-P